DEPARTMENT OF HEALTH AND HUMAN SERVICES

Health Resources and Services Administration

Training and Technical Assistance Cooperative Agreement Limited Competition Announcement

AGENCY: Health Resources and Services Administration, HHS.

ACTION: Notice of limited competition cooperative agreement.

SUMMARY: The Health Resources and Services Administration's (HRSA) HIV/AIDS Bureau (HAB) announces that applications will be accepted for fiscal year (FY) 2002 awards for a cooperative agreement to support an International AIDS Education and Training Center (IAETC). The IAETC will assist countries severely affected by the HIV/AIDS epidemic to build capacity for HIV care and support services through the training and education of HIV/AIDS care providers, including physicians, nurses, clinical administrators, and other key personnel. The IAETC will enhance training capacity in the areas of diagnosis, treatment, and prevention of HIV disease, including the prevention of perinatal transmission of the disease, measures for the prevention and treatment of opportunistic infections, and appropriate use of antiretroviral therapy. The IAETC will also develop training on the planning, design, and management of regional or national HIV/AIDS training programs and HIV/AIDS care facilities and programs.

HRSA will assist the IAETC to identify the countries, institutions, and in-country stakeholders with which the IAETC will collaborate. Initial partners are likely to be in Africa and India. However, the number and variety of requests for assistance are expected to expand as relationships develop and additional countries in the Caribbean, Asia, and Latin America finalize specific HIV/AIDS care and support plans. Country needs and resources will vary, so the IAETC must be prepared and able to tailor its response based on the country profile. Because of the diversity in populations and differences in the epidemic, healthcare infrastructure, and educational resources, HRSA expects that a range of ideas and approaches will be implemented.

As an active partner in this cooperative agreement, HRSA will have significant involvement with the applicant regarding program plans, policies and other issues which may have major implications for any activities undertaken by the applicant under the cooperative agreement. HRSA will provide consultation and technical assistance in planning, operating, and evaluating program activities. HRSA will also facilitate the collaboration with program partners, such as CDC/Atlanta, CDC field offices, USAID, foreign governments, and other key stakeholders.

Availability of Funds

It is anticipated that a single recipient will be selected for the IAETC and is expected to be approximately $500,000 for the initial budget period. Initial funding will be available for 6 months, while subsequent budget periods will be 12 months. The entire project period will be three and one-half years. Continuation awards will be made on the basis of satisfactory progress and the availability of funds. Additional funding may be made available from collaborating U.S. agencies. Applications are due January 22, 2002.

Applications will be reviewed according to the following criteria: Organizational Capacity and Qualifications; Management Plan, Staffing, Organization, and Resources; Adequacy of the Proposed Plan for Initial Needs Assessment and Plan for Building Training Capacity; Program Collaboration and Linkages; Program Evaluation and Quality Improvement; Appropriateness and Justification of the Budget; and Adherence to Program Guidance.

Eligible Applicants

Eligible applicants are public and nonprofit private entities and schools and academic health sciences centers, which are currently funded AIDS Education Training Centers.

Authorizing Legislation

The authority of this grant program is Section 307 of the Public Health Service Act. The CFDA number is 93.145.

DATES: A letter of intent to submit an application is due December 5, 2001. Applications for this announced grant must be received in the HRSA Grants application Center by the close of business January 22, 2002. Applications shall be considered as meeting the deadline if they are (1) received on or before the deadline date or (2) are postmarked on or before the deadline date and received in time for orderly processing and submission to the review committee. Applicants should request a legibly dated receipt from a commercial carrier or U.S. Postal Service postmark. Private metered postmarks will not be acceptable as proof of timely mailing. Applications postmarked after the due date will be returned to the applicant.

ADDRESSES: Letters of intent to apply for funding should be mailed to William Oscar Fleming, HIV/AIDS Bureau, Health Resources and Services Administration, 5600 Fishers Lane, Room 7-29, Rockville, MD 20857. All applications should be mailed or delivered to HRSA Grants Application Center, 1815 N. Fort Meyer Dr., Suite 300, Arlington, VA 22209. Grant applications sent to any address other than that above are subject to being returned. Application forms and guidance will be sent directly to all eligible participants upon the publishing of this Federal Register notice. Federal Register notices are available on the World Wide Web via the Internet. The web site address for HAB is: http://www.hrsa.gov/hab/.

FOR FURTHER INFORMATION CONTACT: Additional technical information may be obtained from William Oscar Fleming, HIV/AIDS Bureau, Health Resources and Services Administration, 5600 Fishers Lane, Room 7-29, Rockville, MD 20857. The telephone number is (301) 443-4502. The fax number is (301) 443-9887 and the e-mail address is wfleming@hrsa.gov. You may also contact Dr. Laura Cheever, HIV Education Branch, HRSA, 5600 Fishers Lane, Parklawn Building, Rm. 7-16, Rockville, Maryland 20857. Telephone number is (301) 443-2123 and the fax: (301) 443-9887.

Dated: November 15, 2001.
Elizabeth M. Duke,
Acting Administrator.

[FR Doc. 01-29005 Fied 11-20-01; 8:45 am]

BILLING CODE 4165-15-P